DEPARTMENT OF TRANSPORTATION

Surface Transportation Board

[STB Docket No. MC-F-21034]

Clean Truck Coalition, LLC, et al.—Pooling Application

AGENCY: Surface Transportation Board, DOT.

ACTION: Notice of filing of application.

SUMMARY: By application filed on June 3, 2009, certain participating motor carriers (Applicants) in the Clean Truck Coalition, LLC (CTC), a California limited liability corporation, jointly request approval of a pooling agreement under 49 U.S.C. 14302 and 49 CFR 1184.1, et seq. Applicants propose to pool and/or divide specialized clean truck equipment and corresponding traffic, as necessary, and to use collective purchasing options through a central buying mechanism for fuel, equipment, and materials to manage operations costs. As a result of the agreement, Applicants would be part of the Clean Trucks Program (program), an environmental program aimed at reducing air pollution caused by the trucks used to transport cargo to and from the harbor facilities of the Ports of Los Angeles and Long Beach, CA (the Ports). The program is sponsored through the San Pedro Bay Ports Clean Air Action Plan (the Plan),¹ and provides grants and financial incentives that allow selected trucking companies to replace older, high-polluting trucks with newer, cleaner trucks. The Plan defines the relevant market as shipments transported to and from the Ports using clean trucks. The outbound deliveries generally would be to designated rail and truck container yards, nearby distribution facilities, and other regional service points. Inbound shipments would represent traffic moving in the reverse direction. Applicants would continue to conduct their own transportation operations serving the Ports and augment their present service from a separate to a joint regionalized service.

¹ According to Applicants, the Plan was implemented by the City of Los Angeles Board of Harbor Commissioners at a meeting held on October 23, 2008.

DATES: Any comments on the application must be filed by July 27, 2009.

ADDRESSES: Send an original plus 10 copies of any comments, referring to STB Docket No. MC-F-21034, to the Surface Transportation Board, 395 E Street, SW., Washington, DC 20423-0001. In addition, send one copy of any comments to: (1) William D. Taylor, Esq., Hanson Bridgett LLP, 500 Capitol Mall, Suite 1500, Sacramento, CA 95814; and (2) James A. Calderwood, Esq., Zuckert, Scoutt & Rasenberger, L.L.P., 888 Seventeenth Street, NW., Suite 700, Washington, DC 20006.

FOR FURTHER INFORMATION CONTACT: Melissa Ziembicki, (202) 245-0386. Assistance for the hearing impaired is available through the Federal Information Relay Service (FIRS) at 1-800-877-8339.

SUPPLEMENTARY INFORMATION: Under 49 U.S.C. 11322, the Board may approve pooling agreements that are voluntarily entered into by carriers, provided that the pooling or division of traffic, services, or earnings will be in the interest of better service to the public or of economy of operation and will not unreasonably restrain competition. The proposed pooling agreement would allow Applicants to continue to conduct their own transportation operations and serve the Ports with related revenues within the market area. Applicants contend that the agreement would allow them to maximize their ability to purchase jointly materials and equipment specialized for clean trucks, to level the collective buying power, and to free Applicants' resources for further expansion of the overall program. The Plan requires Applicants to meet and satisfy stringent clean truck requirements while serving the Ports. Thus, Applicants state that the agreement would benefit the public because participation in the program would result in improvements in the air quality and a reduction in emissions output.

According to Applicants, the Plan defines the extent of eligible carriers and, therefore, Applicants' overt actions would not determine the competitive landscape. Applicants note that the common denominator among Applicants is their sanction from the Ports under the program, and that there are other similarly sanctioned carriers who are not part of the proposed pooling agreement. Applicants state that they would be willing to consider, with Board approval, additional qualified participants that would be capable of providing the services and conducting the operations necessary to meet the common operating criteria.

Applicants state that, collectively, they represent ten percent of the overall monthly truck activity to and from the Ports' harbor facilities. Specifically, Applicants are: Green Fleet Systems, LLC, a Delaware limited liability company; California Intermodal Associates, Inc., a California corporation; Fox Transportation, Inc., a California corporation; Golden State Express, Incorporated, a California corporation; Harbor Division, Inc., a California corporation; Overseas Freight Inc., a California corporation; Pacific 9 Transportation, Inc., a California corporation; Progressive Transportation Services, Inc., a California corporation; Southern Counties Express, Inc., a California corporation; and Total Transportation Services, Inc., a California corporation. Together, Applicants are members of CTC, with an equal ownership interest in the entity. CTC would operate as a joint venture within a limited liability company structure.

Decided: June 19, 2009.
By the Board, Joseph H. Dettmar, Acting Director, Office of Proceedings.
Jeffrey Herzig,
Clearance Clerk.

[FR Doc. E9-14892 Filed 6-24-09; 8:45 am]

BILLING CODE 4915-01-P